DEPARTMENT OF EDUCATION

Comprehensive School Reform Quality Initiatives Program

AGENCY: Office of Elementary and Secondary Education, Department of Education.

ACTION: Notice of proposed priorities.

SUMMARY: The Assistant Secretary for Elementary and Secondary Education proposes priorities for the competitions under the Comprehensive School Reform (CSR) Quality Initiatives program to reflect the importance of all children meeting challenging State academic content and State academic achievement standards. The Assistant Secretary may use these proposed priorities for competitions in fiscal year (FY) 2005 and in later years.

DATES: We must receive your comments on or before January 3, 2005.

ADDRESSES: Address all comments about these proposed priorities to Margaret McNeely, U.S. Department of Education, 400 Maryland Avenue, SW., Room 3W103, Washington, DC 20202-6200, Fax (202) 260-8969. If you prefer to send your comments through the Internet, use the following address: compreform@ed.gov.

You must include the term COMMENTS in the subject line of your electronic message.

FOR FURTHER INFORMATION CONTACT: Margaret McNeely. Telephone: (202) 260-1335 or via the Internet at compreform@ed.gov.

If you use a telecommunications device for the deaf (TDD), you may call the Federal Information Relay Service (FIRS) at 1-800-877-8339.

Individuals with disabilities may obtain this document in an alternative format (e.g., Braille, large print, audiotape or computer diskette) on request to the contact person listed under FOR FURTHER INFORMATION CONTACT.

SUPPLEMENTARY INFORMATION:

Invitation To Comment

We invite you to submit written comments regarding these proposed priorities. To ensure that your comments have maximum effect in developing the notice of final priorities, we urge you to identify clearly the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the program.

During and after the public comment period, you may inspect all public comments about these proposed priorities in Room 3W103, 400 Maryland Avenue, SW., Washington, DC, 20202 between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

General

The purpose of the CSR Quality Initiatives program, authorized under section 1608 of the Elementary and Secondary Education Act of 1965, as amended (ESEA), is to provide discretionary grants to support activities that will enhance the State-administered CSR program and to enable schools that have been identified for improvement, corrective action, or restructuring under Title I of the ESEA to meet their State's definition of adequate yearly progress (AYP). Under this program, the Secretary awards funds to support two specific categories of activities: Category 1—technical assistance to States, school districts and schools in making informed decisions regarding approving or selecting providers of comprehensive school reform, and Category 2—capacity building for comprehensive school reform providers to expand their work in more schools, assure quality and promote financial stability.

Background of Proposed Priorities

Grantees under Category 1 assist States, local educational agencies (LEAs), and schools in making informed decisions regarding approving or selecting providers of comprehensive school reform, consistent with the requirements of section 1606(a) of the ESEA, as amended. Research and evaluation studies of comprehensive school reform implementation indicate that schools in need of improvement face a myriad of challenges in meeting AYP. One of these challenges is to expand the knowledge of district and school personnel regarding school reform strategies and methods so that they can effectively assist in identifying clearly the teaching and learning needs of the school and can identify the service provider that can best meet those needs. With more quality information about the problem areas and scientifically-based solutions, schools will be in a stronger position to implement school reforms effectively. In addition to the need for schools and districts to become better consumers of school reform data and research, school- and district-based reformers need to have a better understanding of the timeline for implementing the necessary changes in teaching and learning and how to track student achievement gains throughout the process. Accordingly, we are proposing a priority for Category 1 projects that will provide States, districts and schools with high-quality information tools and other forms of technical assistance to identify the instructional needs of students and to select a reform approach and provider to meet those needs effectively so that all students are able to meet challenging State academic content and student achievement standards and so that schools are able to make AYP.

To implement the matching requirements of the ESEA, we are also proposing a priority for Category 1 projects that propose to match Federal funds received under this competition with funds from one or more private organizations.

Category 2 projects foster the development of comprehensive school reform models and provide effective capacity building for comprehensive school reform providers to expand their work in more schools and ensure quality. Meeting the needs of all students within CSR schools, including traditionally underserved students such as students with disabilities, limited English proficient students and students in rural areas, requires additional development efforts on the part of CSR service providers. Although some service providers recommend one or more strategies for including these underserved students, there is still a need to provide schools with better information, guidance and professional development on how to serve these students specifically. Thus, for Category 2 projects, we are proposing a priority for projects that will focus activities on developing and testing strategies to meet the needs of these groups of students.

We are also proposing a priority that would apply to both Category 1 and Category 2 projects. Both the technical assistance and capacity building projects are national in scope thus impacting more than one school, district or State. The strategies and approaches developed by the Category 1 projects will be used across the country and across site-specific conditions. Therefore, the most effective technical assistance effort will take place in varied sites. For the Category 2 projects, the focus is on improving services to students and should be developed and tested across multiple locations and conditions. Thus, for both Category 1 and Category 2 projects, we are proposing a priority that would provide assistance to LEAs in more than one State.

Discussion of Priorities

We will announce the final priorities in a notice in the Federal Register. We will determine the final priorities after considering written responses to this notice and other information available to the Department. This notice does not preclude us from proposing or funding additional priorities, subject to meeting applicable rulemaking requirements.

Note: This notice does not solicit applications. In any year in which we choose to use these proposed priorities, we invite applications through a notice in the Federal Register. When inviting applications we designate the priority as absolute, competitive preference, or invitational. The effect of each type of priority follows:

Absolute Priority: Under an absolute priority we consider only applications that meet the priority (34 CFR 75.105(c)(3)).

Competitive Preference Priority: Under a competitive preference priority we give competitive preference to an application by either (1) awarding additional points, depending on how well or the extent to which the application meets the competitive priority (34 CFR 75.105 (c)(2)(i)); or (2) selecting an application that meets the competitive priority over an application of comparable merit that does not meet the priority (34 CFR 75.105(c)(2)(ii)).

Invitational Priority: Under an invitational priority we are particularly interested in applications that meet the invitational priority. However, we do not give a competitive or absolute preference over other applications (34 CFR 75.105(c)(1)).

Priorities

Proposed Priority for Category 1 Applicants

To help ensure that the activities supported under Category 1 (technical assistance in making informed decisions) of the CSR Quality Initiatives program best address the needs of States, districts and schools, the Assistant Secretary proposes the following priority:

The grantee will provide assistance to States, LEAs and schools in selecting a comprehensive school reform provider or developing comprehensive school reforms for schools that are identified as being in need of improvement, corrective action, or restructuring under section 1116 of the Elementary and Secondary Education Act of 1965, as amended. The applicant will provide a plan for providing States, LEAs and schools with information tools and technical assistance in such areas as using data to identify the instructional needs of students and to clarify the technical assistance and professional development needs of teachers and administrators.

Proposed Priority for Category 1 Applicants

For Category 1 grants, the statute requires that the awards be matched with funds from private organizations. In response to this requirement, the Assistant Secretary proposes the following priority:

The applicant must demonstrate, in its grant application, that its CSR Quality Initiative award will be matched with funds from one or more private organizations. For each year that a grantee receives a CSR Quality Initiative award, the match, including any in-kind contributions, must total at least 10 percent of the award.

Proposed Priority for Category 2 Applicants

To help ensure that all children meet challenging State academic content and academic achievement standards, the Assistant Secretary proposes the following priority for Category 2 applicants:

The applicant will implement activities to: (1) Develop and field-test specific instructional strategies to meet the needs of students who have been traditionally underserved by comprehensive reform providers, such as students with disabilities and students with limited English proficiency and to integrate those strategies into scientifically research-based comprehensive school reforms, or (2) increase the capacity of comprehensive reform providers to serve students in rural areas. These strategies or capacities could be additions or enhancements to existing CSR models or services already being provided.

Proposed Priority for Category 1 and 2 Applicants

The Assistant Secretary proposes the following priority for Category 1 and Category 2 grants:

The grantee will assist LEAs in more than one State.

Executive Order 12866

This notice of proposed priorities has been reviewed in accordance with Executive Order 12866. Under the terms of the order, we have assessed the potential costs and benefits of this regulatory action.

The potential costs associated with the notice of proposed priorities are those resulting from statutory requirements and those we have determined as necessary for administering this program effectively and efficiently to provide the most benefits for the greatest number of students.

In assessing the potential costs and benefits—both quantitative and qualitative—of this notice of proposed priorities, we have determined that the benefits of the proposed priorities justify the costs.

We have also determined that this regulatory action does not unduly interfere with State, local and tribal governments in the exercise of their governmental functions.

Summary of potential costs and benefits: The potential costs associated with these proposed priorities are minimal, while the benefits are significant. Grantees may anticipate costs associated with completing the application process in terms of staff time, copying, and mailing or delivery. The use of e-Application technology reduces mailing and copying costs significantly.

The benefits of the CSR Quality Initiatives projects are in helping low-performing schools make AYP. These proposed priorities will generate new strategies for schools, districts, and States so that all students are able to meet challenging State academic content and student achievement standards.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text at the Applicant Information link of the following site: http://www.ed.gov/programs/compreform.

Note: The official version of this document is the document published in the Federal Register. Free Internet access to the official edition of the Federal Register and the Code of Federal Regulations is available on GPO Access at: http://www.gpoaccess.gov/nara/index.html

(Catalog of Federal Domestic Assistance Number 84.322B Comprehensive School Reform—Quality Initiatives)

Program Authority: 20 U.S.C. 6518.

Dated: November 26, 2004.
Raymond Simon,
Assistant Secretary for Elementary and Secondary Education.

[FR Doc. E4-3404 Filed 11-30-04; 8:45 am]

BILLING CODE 4000-01-P